DEPARTMENT OF TRANSPORTATION

Surface Transportation Board

[STB Finance Docket No. 33843]

Arkansas and Missouri Railroad Company—Lease and Operation Exemption—Union Pacific Railroad Company

Arkansas and Missouri Railroad Company (A&M), a Class III rail carrier, has filed a verified notice of exemption under 49 CFR 1150.41 to lease and operate 3.2 miles of rail line from Union Pacific Railroad Company (UP) at several locations near UP's Van Buren, Arkansas yard, in Sebastian County, AR. A&M states that there are no mileposts assigned to the area by UP.

Because A&M's projected annual revenues will exceed $5 million, A&M has certified to the Board on June 8, 2000, that the required notice of the transaction was posted at the workplace of the employees on the affected lines on April 6, 2000. See 49 CFR 1150.42(e). A&M stated in its verified notice that the transaction was scheduled to be consummated on or about June 14, 2000.¹

¹ Due to the timing of A&M's certification to the Board, consummation under normal circumstances would have to be delayed until August 7, 2000 (60 days after A&M's certification to the Board that it had complied with the Board's rule at 49 CFR 1150.42(e)). In a decision in this proceeding served on June 29, 2000, however, the Board granted the request by A&M for waiver of the remainder of the 60-day period, as measured from the certification date to the Board, to allow consummation to occur as early as June 29, 2000, because rail employees and their unions had been given more than 60 days' actual notice in this case.

If the notice contains false or misleading information, the exemption is void ab initio. Petitions to revoke the exemption under 49 U.S.C. 10502(d) may be filed at any time. The filing of a petition to revoke does not automatically stay the transaction.

An original and 10 copies of all pleadings, referring to STB Finance Docket No. 33843, must be filed with the Surface Transportation Board, Office of the Secretary, Case Control Unit, 1925 K Street, NW., Washington, DC 20423-0001. In addition, a copy of each pleading must be served on James E. Howard, 90 Canal Street, Boston, MA 02114.

Board decisions and notices are available on our website at “WWW.STB.DOT.GOV.”

Decided: June 29, 2000.
By the Board, David M. Konschnik, Director, Office of Proceedings.
Vernon A. Williams,
Secretary.

[FR Doc. 00-17122 Filed 7-6-00; 8:45 am]

BILLING CODE 4915-00-P